DEPARTMENT OF AGRICULTURE

Grain Inspection, Packers and Stockyards Administration

9 CFR Part 201

Regulations Under the Packers and Stockyards Act

CFR Correction

In Title 9 of the Code of Federal Regulations, Part 200 to End, revised as of January 1, 2015, on page 27, in § 201.100, in paragraph (c)(2)(v), add “and” at the end of the paragraph, after the semicolon.

[FR Doc. 2015-32119 Filed 12-21-15; 8:45 am]

BILLING CODE 1505-01-D